COMMODITY FUTURES TRADING COMMISSION

Sunshine Act Meeting

Federal Register Citation of Previous Announcement: 67 FR 45096.

Previously Announced Time and Date of Meeting: 10 a.m., Thursday, August 1, 2002.

Changes in the Meeting: The time of the open meeting to discuss Commodity Futures Trading Commission Roundtable on Clearing Issues has been changed from 10 a.m. to 1 p.m.-5 p.m., August 1, 2002.

Contact Person for More Information: Jean A. Webb, 418-5100.

Jean A. Webb,
Secretary of the Commission.

[FR Doc. 02-18284 Filed 7-16-02; 1:08 pm]

BILLING CODE 6351-01-M